INTERNATIONAL TRADE COMMISSION

[Investigation Nos. 731-TA-868-870 (Final)]

Steel Wire Rope From China, India, and Malaysia; Notice of Commission Determination To Conduct a Portion of the Hearing In Camera

AGENCY: U.S. International Trade Commission.

ACTION: Closure of a portion of a Commission hearing to the public.

SUMMARY: Upon request of respondents The Ad Hoc Coalition of America Steel Wire Rope Importers and the Coalition's individual members, as well as foreign producers Usha Martin Industries, Xinshan City Wire Rope Factory, Nantong Zhongde Steel Rope Co., Ltd., Henan Boai Wire Material Factory, and Nantong Wire Rope Group Co., Limited (collectively “Respondents”), the Commission has determined to conduct a portion of its hearing in the above-captioned investigations scheduled for February 21,2001, in camera. See Commission rules 207.24(d), 201.13(m) and 201.36(b)(4) (19 CFR 207.24(d), 201.13(m) and 201.36(b)(4)). The remainder of the hearing will be open to the public. The Commission has determined that the seven-day advance notice of the change to a meeting was not possible. See Commission rule 201.35(a), (c)(1) (19 CFR 201.35(a), (c)(1)).

FOR FURTHER INFORMATION CONTACT: Michael Diehl, Office of General Counsel, U.S. International Trade Commission, 500 E Street, SW., Washington, DC 20436, telephone 202-205-3095, e-mail mdiehl@usitc.gov. Hearing-impaired individuals are advised that information on this matter may be obtained by contacting the Commission's TDD terminal on 202-205-1810.

SUPPLEMENTARY INFORMATION: The Commission believes that Respondents have justified the need for a closed session. Respondents seek a closed session to allow testimony on a producer-specific basis and on allegations of lost sales due to competition with subject imports. Because such discussions will necessitate disclosure of business proprietary information (BPI), they can only occur if a portion of the hearing is held in camera. In making this decision, the Commission nevertheless reaffirms its belief that whenever possible its business should be conducted in public.

The hearing will include the usual public presentations by petitioners and by Respondents, with questions from the Commission. In addition, the hearing will include an in camera session for a confidential presentation by Respondents and for questions from the Commission relating to the BPI, followed by an in camera rebuttal presentation by petitioners. For any in camera session the room will be cleared of all persons except those who have been granted access to BPI under a Commission administrative protective order (APO) and are included on the Commission's APO service list in this investigation. See 19 CFR 201.35(b)(1), (2). The time for the parties' presentations and rebuttals in the in camera session will be taken from their respective overall allotments for the hearing. All persons planning to attend the in camera portions of the hearing should be prepared to present proper identification.

Authority: The General Counsel has certified, pursuant to Commission Rule 201.39 (19 CFR § 201.39) that, in her opinion, a portion of the Commission's hearing in Steel Wire Rope from China, India, and Malaysia, Inv. Nos. 731-TA-868-870 (Final), may be closed to the public to prevent the disclosure of BPI.

Issued: February 20, 2001.
By order of the Commission.
Donna R. Koehnke,
Secretary.

[FR Doc. 01-4836 Filed 2-27-01; 8:45 am]

BILLING CODE 7020-02-P